DEPARTMENT OF ENERGY

Federal Energy Regulatory Commission

[Docket No. EL10-56-000]

Western Electric Coordinating Council; Notice of Institution of Proceeding and Refund Effective Date

May 20, 2010.

On May 20, 2010, the Commission issued an order that instituted a proceeding in Docket No. EL05-56-000, pursuant to section 206 of the Federal Power Act (FPA), 16 U.S.C. 824e, concerning the spot market energy price cap in the Western Electric Coordinating Council outside the California Independent System Operator Corporation. Western Electric Coordinating Council, 131 FERC ¶ 61,145 (2010).

The refund effective date in Docket No. EL10-56-000, established pursuant to section 206(b) of the FPA, will be the date of publication of this notice in the Federal Register.

Kimberly D. Bose,
Secretary.

[FR Doc. 2010-12855 Filed 5-27-10; 8:45 am]

BILLING CODE 6717-01-P